DEPARTMENT OF ENERGY

Office of Energy Efficiency and Renewable Energy

Department of Energy's Fleet Alternative Fuel Vehicle Acquisition

AGENCY: Office of Energy Efficiency and Renewable Energy, U.S. Department of Energy.

ACTION: Notice of availability of the Department of Energy's annual report on its Alternative Fuel Vehicle Acquisitions for fiscal year 2001.

SUMMARY: In compliance with the Energy Policy Act of 1992 and Executive Order 13149, this notice announces the availability of the 2001 report which summarizes the U.S. Department of Energy's (DOE) compliance with the annual alternative fuel vehicle acquisition requirement for its vehicle fleet. Additionally, this report includes data concerning DOE's efforts to reduce petroleum consumption.

ADDRESSES: U.S. Department of Energy, Office of Energy Efficiency and Renewable Energy, Office of FreedomCAR and Vehicle Technologies, EE-2G, 1000 Independence Avenue, SW., Washington, DC 20585-0121.

FOR FURTHER INFORMATION CONTACT: Shabnam Fardanesh on (202) 586-7011 or shabnam.fardanesh@ee.doe.gov.

SUPPLEMENTARY INFORMATION: The Energy Policy Act of 1992 (42 U.S.C. 13211-13219) as amended by the Energy Conservation and Reauthorization Act of 1998 (Pub. L. 105-388, section 310(b)(3)(b)) and Executive Order 13149 (April 2000) were intended to decrease the country's dependence on petroleum for transportation purposes. The Energy Policy Act of 1992 requires Federal fleets to make 75 percent of their new covered vehicles acquisitions alternative fueled vehicles. In fiscal year 2001, DOE acquired 109 percent of its new covered vehicles as alternative fueled vehicles, exceeding the 75 percent requirement by 34 percent. DOE also exceeded its alternative fueled vehicle acquisition requirements in fiscal years 1999 and 2000, and expects a similarly high level of compliance for fiscal years 2002 and 2003.

Pursuant to 42 U.S.C. 13218, DOE and other covered agencies are required annually to submit to Congress reports on their alternative fueled vehicle acquisitions. These reports must also be placed on a publicly available Web site and their availability, including the Web site address, must be published in the Federal Register.

The DOE report for 2001 may be accessed on the Vehicle Technology's Federal Fleet Web site at http://www.ott.doe.gov/epact/fed_fleet_prog.shtml.

Issued in Washington, DC, on March 25, 2003.
David K. Garman,
Assistant Secretary, Energy Efficiency and Renewable Energy.

[FR Doc. 03-7478 Filed 3-27-03; 8:45 am]

BILLING CODE 6450-01-P